CONSUMER PRODUCT SAFETY COMMISSION

[Docket No. CPSC-2018-0005]

Agency Information Collection Activities; Submission for OMB Review; Comment Request; Survey on Smoke and Carbon Monoxide Alarms

AGENCY: Consumer Product Safety Commission.

ACTION: Notice.

SUMMARY: As required by the Paperwork Reduction Act of 1995, the Consumer Product Safety Commission (CPSC or Commission) announces that the Commission has submitted to the Office of Management and Budget (OMB), a request for extension of approval for an information collection on a survey that will estimate the use of smoke and carbon monoxide alarms in United States households. On July 23, 2021, the CPSC published a notice in the Federal Register announcing the agency's intent to seek approval of this collection of information. After reviewing and considering the comments, the Commission announces that it has submitted a request for approval of this collection of information to the OMB.

DATES: Submit written or electronic comments on the collection of information by November 26, 2021.

ADDRESSES: Written comments and recommendations for the proposed information collection should be sent within 30 days of publication of this notice to: www.reginfo.gov/public/do/PRAMain. Find this particular information collection by selecting “Currently under 30-day Review—Open for Public Comments” or by using the search function. In addition, written comments that are sent to OMB also should be submitted electronically at: http://www.regulations.gov, under Docket No. CPSC-2018-0005.

FOR FURTHER INFORMATION CONTACT: Cynthia Gillham, Consumer Product Safety Commission, 4330 East West Highway, Bethesda, MD 20814; (301) 504-7991, or by email to: cgillham@cpsc.gov.

SUPPLEMENTARY INFORMATION:

A. Background

The Commission is authorized under section 5(a) of the Consumer Product Safety Act (CPSA), 15 U.S.C. 2054(a), to conduct studies and investigations relating to the causes and prevention of deaths, accidents, injuries, illnesses, other health impairments, and economic losses associated with consumer products. Section 5(b) of the CPSA, 15 U.S.C. 2054(b), further provides that the Commission may conduct research, studies, and investigations on the safety of consumer products or test consumer products and develop product safety test methods and testing devices.

In 1992, the CPSC sponsored a national in-home survey to collect information on the number of residential smoke alarms in actual use in homes and to evaluate the operability of the sampled alarms. The results were published in the 1994 report, Consumer Product Safety Commission Smoke Detector Operability Survey Report on Findings.¹ Although the survey results, for many years, were instrumental in developing state and local codes and standards related to smoke alarms, subsequent changes in technology, installation codes, and state/local ordinances in the past 25 years have rendered the information outdated and less effective. Stakeholders' groups for fire loss prevention have identified a need for an updated national survey to increase the installation and maintenance of smoke alarms in the United States. In addition, installations of CO alarms have increased since 1992. Accordingly, CPSC sought to update its data information collection related to smoke and CO alarm use through a new survey, the National Smoke and CO Alarm Survey (SCOA survey).

¹ 1. Charles L. Smith, Smoke Detector Operability Survey—Report on Findings, (Bethesda, MD: CPSC, November 1993).

Although the SCOA survey initially commenced in January 2019, CPSC experienced lower response rates relative to expectations in the administration of the SCOA survey in fielding locations than had been established by the study's approved methodology. To correct for this challenge, and to complete the number of homes surveyed in the contract, CPSC undertook a revised sampling method and contact protocol for participant recruitment. Among the revisions to the methodology, CPSC included a redesign of the recruitment, screening, and in-home survey, based on a random walk, door-to-door knocking sample methodology. The SCOA survey seeks to collect information from 1,185 households within the United States. The survey will be conducted only through face-to-face, in-home interviews. Following all COVID-19 safety precautions, survey professionals will provide prenotification door hangers, requesting participation in the survey. These households will be recruited, willing participants will be provided with consent forms, and the survey team will administer questions regarding the residence type, and smoke and CO alarm availability and functionality in the residences. The survey team also will identify, test, and examine several of the alarms in the home, as time permits; and if the alarms are found to be faulty, the survey team will offer to provide new alarms or batteries, and will do so if requested by the participant. No action will be taken if participants choose not to have the alarm fixed or replaced.

CPSC contracted with EurekaFacts to conduct the SCOA survey through a national in-home survey that would estimate the use and functionality of smoke and CO alarms in households, as well as assess user hazard perceptions regarding such alarms. The purpose of the SCOA survey is to collect data that will assist CPSC with better estimation of the number and types of smoke and CO alarms installed in U.S. households, the proportion of working smoke and CO alarms, the characteristics of residences and residents where the smoke and CO alarms are not operational, perceptions of residents related to the causes of “false” alarms or causes of faulty alarms, consumer hazard awareness, and consumer behavior related to alarm use and smoke and CO hazards.

The information collected from the SCOA survey would provide CPSC updated national estimates regarding the use of smoke alarms and CO alarms in households, based on direct observation of alarm installations. The survey also would help CPSC identify the groups who do not have operable smoke alarms and/or CO alarms and help CPSC understand the reasons why these groups do not have such alarms. With this information, CPSC would be able to target its messaging better and help to improve consumer use and awareness regarding the operability of these alarms. In addition, the survey results would help to inform CPSC's recommendations to voluntary standards groups and state/local jurisdictions regarding their codes, standards, and/or regulations on smoke and CO alarms.

B. Burden Hours

We estimate the number of respondents to be 1,185. We estimate the total annual burden hours for respondents to be 1,552 hours, based on the total time required to respond to the invitation, screener, and the actual survey. According to the U.S. Bureau of Labor Statistics, the total compensation for civilian workers in March 2021 was $39.01 per hour (Employer Cost for Employee Compensation, Table 2). Therefore, CPSC estimates the cost burden for respondents to be $60,544 ($39.01 per hour × 1,552 hours = $60,543.52). The total cost to the federal government for the contract to design and conduct the revised survey is $562,725.

C. Response to Comments

On July 23, 2021, notice of the SCOA survey was published in the Federal Register. 86 FR 39006. The CPSC received one comment. The commenter stated that although survey email may produce some results, door-to-door solicitation should not be conducted because people do not want strangers coming to their front door.

Staff agrees that current public perceptions regarding an in-person survey are significantly different than when the smoke alarm survey was last conducted in 1992. However, the initial rollout of the survey in 2019, soliciting randomly selected households via a mailed pre-notification letter, which were subsequently screened for an in-home or telephone interview, resulted in an extremely low response rate. To increase the response rate, the SCOA survey recruitment effort was redesigned as a door-to-door walk-recruitment methodology. Field teams distribute door hangers on randomly selected households to provide prenotification that researchers will be knocking on doors asking for participation in a survey. A pilot survey conducted in the Washington metro area showed significant improvement in the response rate. Accordingly, to obtain the best information available, the SCOA survey data collection will continue to use this door-to-door recruitment methodology, recognizing that home visits by trained data collectors with inspection and testing provide much better-quality data compared to telephone or internet surveys. Accordingly, the Commission announces that it has submitted a request to OMB for approval of renewal of this collection of information.

Alberta E. Mills,
Secretary, Consumer Product Safety Commission.

[FR Doc. 2021-23249 Filed 10-25-21; 8:45 am]

BILLING CODE P